ENVIRONMENTAL PROTECTION AGENCY

40 CFR Part 68

[EPA-HQ-OEM-2015-0725; FRL-9959-57-OLEM]

RIN 2050-AG82

Accidental Release Prevention Requirements: Risk Management Programs Under the Clean Air Act; Further Delay of Effective Date

AGENCY: Environmental Protection Agency (EPA).

ACTION: Final rule; delay of effective date.

SUMMARY: By a letter dated March 13, 2017, the Administrator announced the convening of a proceeding for reconsideration of the final rule that amends the chemical accident prevention provisions addressing Risk Management Programs under the Clean Air Act published in the Federal Register on January 13, 2017. The effective date of these regulations had been March 21, 2017. By this action, the EPA is administratively staying and delaying the effective date of this rule for 90 days. Thus, the January 13, 2017 rule will become effective on June 19, 2017.

DATES: The effective date of the rule amending 40 CFR part 68 published at 82 FR 4594 (January 13, 2017), as delayed at 82 FR 8499 (January 26, 2017) is further delayed to June 19, 2017.

ADDRESSES: The EPA has established a docket for the rule amending 40 CFR part 68 under Docket ID No. EPA-HQ-OEM-2015-0725. All documents in the docket are listed on the http://www.regulations.gov Web site. Although listed in the index, some information is not publicly available, e.g., Confidential Business Information (CBI) or other information whose disclosure is restricted by statute. Certain other material, such as copyrighted material, is not placed on the Internet and will be publicly available only in hard copy form. Publicly available docket materials are available electronically through http://www.regulations.gov.

FOR FURTHER INFORMATION CONTACT: James Belke, United States Environmental Protection Agency, Office of Land and Emergency Management, 1200 Pennsylvania Ave. NW. (Mail Code 5104A), Washington, DC 20460; telephone number: (202) 564-8023; email address: belke.jim@epa.gov, or: Kathy Franklin, United States Environmental Protection Agency, Office of Land and Emergency Management, 1200 Pennsylvania Ave. NW. (Mail Code 5104A), Washington, DC 20460; telephone number: (202) 564-7987; email address: franklin.kathy@epa.gov.

Electronic copies of this document and related news releases are available on EPA's Web site at http://www.epa.gov/rmp. Copies of this final rule are also available at http://www.regulations.gov.

SUPPLEMENTARY INFORMATION:

I. Background

On January 13, 2017, the EPA (“we”) issued a final rule amending 40 CFR part 68, the chemical accident prevention provisions under section 112(r)(7) of the Clean Air Act (CAA) ((42 U.S.C. 7412(r)). The amendments addressed various aspects of risk management programs, including prevention programs at stationary sources, emergency response preparedness requirements, information availability, and various other changes to streamline, clarify, and otherwise technically correct the underlying rules. Collectively, this rulemaking is known as the “Risk Management Program Amendments.” For further information on the Risk Management Program Amendments, see 82 FR 4594 (January 13, 2017).

On January 26, 2017, the EPA published a final rule extending the effective date of the Risk Management Program Amendments from March 14, 2017, to March 21, 2017, see 82 FR 8499. This revision to the effective date of the Risk Management Program Amendments was part of an EPA final rule implementing a memorandum dated January 20, 2017, from the Assistant to the President and Chief of Staff, entitled “Regulatory Freeze Pending Review.” This memorandum directed the heads of agencies to extend until 60 days after the date of its issuance the effective date of rules that were published prior to January 20, 2017 but which had not yet become effective.

In a letter dated February 28, 2017, a group known as the “RMP Coalition,” ¹ submitted a petition for reconsideration of the Risk Management Program Amendments (“RMP Coalition Petition”) as provided for in CAA section 307(d)(7)(B) (42 U.S.C. 7607(d)(7)(B)).² Under that provision, the Administrator is to commence a reconsideration proceeding if in the Administrator's judgment the petitioner raises an objection to a rule that was impracticable to raise during the comment period or if the grounds for the objection arose after the comment period but within the period for judicial review. In either case, the Administrator must also conclude that the objection is of central relevance to the outcome of the rule. The Administrator may stay the effective date of the rule for up to three months during such reconsideration.

¹ The RMP Coalition is comprised of the American Chemistry Council, the American Forest & Paper Association, the American Fuel & Petrochemical Manufacturers, the American Petroleum Institute, the Chamber of Commerce of the United States of America, the National Association of Manufacturers, and the Utility Air Regulatory Group.

² A copy of the petition is included in the docket for this rule, Docket ID No. EPA-HQ-OEM-2015-0725.

In a letter dated March 13, 2017, the Administrator announced the convening of a proceeding for reconsideration of the Risk Management Program Amendments (a copy of this letter is included in the docket for this rule, Docket ID No. EPA-HQ-OEM-2015-0725). As explained in that letter, having considered the objections raised in the RMP Coalition Petition, the Administrator determined that the criteria for reconsideration have been met for at least one of the objections. We will prepare a notice of proposed rulemaking in the near future that will provide the RMP Coalition and the public an opportunity to comment on the issues raised in the petition that meet the standard of CAA section 307(d)(7)(B) as well as any other matter we believe will benefit from additional comment.

II. Issuance of a Stay and Delay of Effective Date

The EPA hereby issues a three-month (90-day) administrative stay of the effective date of the Risk Management Program Amendments. The effective date of the rule amending 40 CFR part 68 published at 82 FR 4594 (January 13, 2017), as amended by 82 FR 8499 (January 26, 2017), is delayed to June 19, 2017.

List of Subjects in 40 CFR Part 68

Environmental protection, Administrative practice and procedure, Air pollution control, Chemicals, Hazardous substances, Intergovernmental relations, Reporting and recordkeeping requirements.

Dated: March 13, 2017.
E. Scott Pruitt,
Administrator.

[FR Doc. 2017-05288 Filed 3-15-17; 8:45 am]

BILLING CODE 6560-50-P